DEPARTMENT OF DEFENSE

GENERAL SERVICES ADMINISTRATION

NATIONAL AERONAUTICS AND SPACE ADMINISTRATION

48 CFR Parts 22, 25, and 52

[FAC 2024-03; FAR Case 2023-012; Item II; Docket No. FAR-2023-0012; Sequence No. 1]

RIN 9000-AO62

Federal Acquisition Regulation: Trade Agreements Thresholds

In rule document 2024-2798 beginning on page 13961 in the issue of Friday, February 23, 2024, make the following correction:

52.212-5 [Corrected]

On page 13964, in the first column, in the amendatory instruction 10.c., in the third line “(FEB 2025)” should read “(FEB 2024)”.

[FR Doc. C1-2024-02798 Filed 3-4-24; 8:45 am]

BILLING CODE 1505-01-D